DEPARTMENT OF AGRICULTURE

Agricultural Marketing Service

[Document Number AMS-NOP-20-0041-NOP-20-04]

Meeting of the National Organic Standards Board

AGENCY: Agricultural Marketing Service, Agriculture (USDA).

ACTION: Notice of public meeting.

SUMMARY: In accordance with the Federal Advisory Committee Act, as amended, the Agricultural Marketing Service (AMS), U.S. Department of Agriculture (USDA), is announcing a meeting of the National Organic Standards Board (NOSB). The NOSB assists the USDA in the development of standards for substances to be used in organic production and advises the Secretary of Agriculture on any other aspects of the implementation of the Organic Foods Production Act (OFPA).

DATES: The NOSB will meet via webinars (virtually) on three days, October 28-October 30, 2020, from 12 p.m. to approximately 5:00 p.m. Eastern Time (ET) each day. The Board will hear oral public comments prior to the meeting via webinars on Tuesday, October 20, 2020, and Thursday, October 22, 2020, from 12 p.m. to approximately 5 p.m. ET. The NOSB will also host an expert panel on sanitizers via webinar in November; the date and time will be announced on the AMS website. The deadline to submit written comments and/or sign up for oral comment is 11:59 p.m. ET, October 1, 2020.

ADDRESSES: All webinars for the public comment sessions, the meeting itself, and the subsequent expert panel can be accessed via the internet and/or phone. Access information will be available on the AMS website prior to each event. Detailed information can be found at https://www.ams.usda.gov/event/national-organic-standards-board-nosb-meeting-cedar-rapids-iowa.

FOR FURTHER INFORMATION CONTACT: Ms. Michelle Arsenault, Advisory Committee Specialist, National Organic Standards Board, USDA-AMS-NOP, 1400 Independence Ave. SW, Room 2642-S, Mail Stop 0268, Washington, DC 20250-0268; Phone: (202) 720-3252; Email: nosb@usda.gov.

SUPPLEMENTARY INFORMATION: The NOSB makes recommendations to the USDA about whether substances should be allowed or prohibited in organic production and/or handling, assists in the development of standards for organic production, and advises the Secretary on other aspects of the implementation of the OFPA. The NOSB is holding a public meeting to discuss and vote on proposed recommendations to the USDA, to receive updates from the USDA National Organic Program (NOP) on issues pertaining to organic agriculture, and to receive comments from the organic community. The meeting is open to the public. All meeting documents and instructions for participating will be available on the AMS website at https://www.ams.usda.gov/event/national-organic-standards-board-nosb-meeting-cedar-rapids-iowa. Please check the website periodically for updates, including the date and time for the expert panel on sanitizers. Meeting topics will encompass a wide range of issues, including substances petitioned for addition to or removal from the National List of Allowed and Prohibited Substances (National List), substances on the National List that are under sunset review, and guidance on organic policies.

Public Comments: Comments should address specific topics noted on the meeting agenda.

Written Comments: Written public comments will be accepted on or before 11:59 p.m. ET on October 1, 2020, via http://www.regulations.gov: Docket #AMS-NOP-20-0041.Comments submitted after this date will be provided to the NOSB, but Board members may not have adequate time to consider those comments prior to making recommendations. The NOP strongly prefers comments be submitted electronically. However, written comments may also be submitted (i.e. postmarked) via mail to the person listed under FOR FURTHER INFORMATION CONTACT by or before the deadline.

Oral Comments: The NOSB will hear oral comments on Tuesday, October 20, 2020, and Thursday, October 22, 2020, from 12:00 p.m. to approximately 5 p.m. Eastern Time (ET). Each commenter wishing to address the Board must pre-register by 11:59 p.m. ET on October 1, 2020, and can register for only one speaking slot. Instructions for registering and participating in the webinars can be found at www.ams.usda.gov/NOSBMeetings.

Meeting Accommodations: If you are a person requiring reasonable accommodation, please make requests in advance for sign language interpretation, assistive listening devices, or other reasonable accommodation to the person listed under FOR FURTHER INFORMATION CONTACT. Determinations for reasonable accommodation will be made on a case-by-case basis.

Bruce Summers,
Administrator, Agricultural Marketing Service.

[FR Doc. 2020-17365 Filed 8-31-20; 8:45 am]

BILLING CODE P